DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327, and U.S. Fish and Wildlife Service.

SUMMARY: The FHWA, on behalf of Caltrans, is issuing this notice to announce actions taken by Caltrans and U.S. Fish and Wildlife Service that are final within the meaning of 23 U.S.C. 139(l)(1). The actions relate to a proposed highway project known as CURE Safety Improvement that proposes to remove all fixed objects in the clear recovery zone along a 4-mile section of the southbound roadside of Highway 101 between King City and Greenfield in Monterey County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before August 14, 2015. If the Federal law that authorizes judicial review of a claim provides a time period of less than 150 days for filing such claim, then that shorter time period still applies.

FOR FURTHER INFORMATION CONTACT: For Caltrans: Matt Fowler, Environmental Branch Chief, Caltrans, 50 Higuera Street, San Luis Obispo, CA 93401, Monday through Friday 8 a.m. to 5 p.m., (805) 542-4603 or matt.c.fowler@dot.ca.gov. For U.S. Fish and Wildlife Service: Steve Henry, Deputy Field Supervisor, Ventura Fish and Wildlife Office, 2493 Portola Road, Suite B, Ventura, CA 93003, Monday through Friday 8 a.m. to 5 p.m. (805) 644-1766, ext 307 or steve.henry@fws.gov.

SUPPLEMENTARY INFORMATION: Effective July 1, 2007, the FHWA assigned, and the Caltrans assumed environmental responsibilities for this project pursuant to 23 U.S.C. 327. Notice is hereby given that the Caltrans and U.S. Fish and Wildlife Service have taken final agency actions subject to 23 U.S.C. 139(l)(1) by issuing licenses, permits, and approvals for the following highway project in the State of California: The project would remove approximately 320 mature Tasmanian blue gum trees (Eucalyptus globulus) and one Monterey cypress tree (Cupressus macrocarpa), remove metal beam guardrail from the edge of the pavement, replace drainage headwalls with flared end sections or drainage inlets, and relocate overhead utility pole guy wires and mission bell poles in the clear recovery zone. Additional work at these locations includes minor grading to reestablish flow lines, applying permanent erosion control, removing and replacing damaged barbed wire fencing, installing planting with irrigation, and constructing three maintenance vehicle pullouts. The primary purpose of the project would remove all fixed objects in the clear recovery zone along a 4-mile section of the southbound roadside of Highway 101 between King City and Greenfield in Monterey County. The actions by the Federal agencies, and the laws under which such actions were taken, are described in the Environmental Assessment/Finding of No Significant Impact (EA/FONSI) for the project, approved on January 29, 2015 and in other documents in the FHWA project records. The EA/FONSI and other project records are available by contacting Caltrans as provided above. The Caltrans EA/FONSI can be viewed and downloaded from the Caltrans Web site project Web site at: http://www.dot.ca.gov/dist05/projects/cure_eir.pdf or viewed at two public libraries in the project area. This notice applies to all Federal agency decisions as of the issuance date of this notice and all laws under which such actions were taken, including but not limited to:

1. General: National Environmental Policy Act (NEPA) [42 U.S.C. 4321-4335].

2. Air: Clean Air Act [23 U.S.C. 109 (j) and 42 U.S.C 7521(a)].

3. Historic and Cultural Resources: National Historic Preservation Act of 1966, as amended (NHPA), 16 U.S.C. 470 (f) et seq.]; Archeological Resources Protection Act of 1977 [16 U.S.C. 470(aa)-470 (ll)]; Archeological and Historic Preservation Act [16 U.S.C. 469-469(c)]; Native American Grave Protection and Repatriation Act (NAGPRA) [25 U.S.C. 3001-3013].

4. Wildlife: Federal Endangered Species Act [16 U.S.C. 1531-1543]; Fish and Wildlife Coordination Act [16 U.S.C. 661-666(C); Migratory Bird Treaty Act [16 U.S.C. 760c-760g].

5. Social and Economic: NEPA implementation [23 U.S.C. 109(h)]; Civil Rights Act of 1964 [42 U.S.C. 2000(d)-2000(d)(1)].

6. Wetlands and Water Resources: Clean Water Act [33 U.S.C. 1344]

7. Executive Orders: E.O. 11990 Protection of Wetlands; E.O. 13112 Invasive Species; E.O. 11988 Floodplain management; E.O. 12898 Federal actions to Address Environmental Justice in Minority Populations and Low Income Populations.

(Catalog of Federal Domestic Assistance Program Number 20.205, Highway Planning and Construction. The regulations implementing Executive Order 12372 regarding intergovernmental consultation on Federal programs and activities apply to this program.)

Authority: 23 U.S.C. 139(l)(1)

Issued on: March 9, 2015.
Gary Sweeten,
North Team Leader, Project Delivery, Federal Highway Administration, Sacramento, California.

[FR Doc. 2015-06099 Filed 3-16-15; 8:45 am]

BILLING CODE 4910-RY-P